INTERNATIONAL TRADE COMMISSION

[Investigation Number 337-TA-1264]

Certain High-Potency Sweeteners, Processes for Making Same, and Products Containing Same; Notice of a Commission Determination Not To Review an Initial Determination Granting Leave To Amend the Complaint and Notice of Investigation To Add Respondents

AGENCY: U.S. International Trade Commission.

ACTION: Notice.

SUMMARY: Notice is hereby given that the U.S. International Trade Commission (“Commission”) has determined not to review an initial determination (“ID”) (Order No. 14) of the presiding administrative law judge (“ALJ”), granting leave to amend the complaint and notice of investigation to add as respondents Amerisweet Co., Ltd.; Batory Foods; DMH Ingredients Inc.; Fortway Chemicals Co.; Ingredient Supply Corporation; Nutravative Ingredients; Nutrisprinter Limited; Polestar Development Limited; Qingdao Samin Chemical Co.; Rochem International Inc.; and V-Chem Trading Ltd. (collectively, the “Proposed Respondents”).

FOR FURTHER INFORMATION CONTACT: Benjamin S. Richards, Esq., Office of the General Counsel, U.S. International Trade Commission, 500 E Street SW, Washington, DC 20436, telephone (202) 708-5453. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on May 14, 2021. 86 FR 26544 (May 14, 2021). The complaint, as supplemented, was filed by complainants Celanese International Corporation of Irving, Texas; Celanese (Malta) Company 2 Limited of Qormi, Malta; and Celanese Sales U.S. Ltd. of Irving, Texas (collectively, “Celanese”), and alleged violations of section 337 of the Tariff Act of 1930, as amended, 19 U.S.C. 1337, in the importation into the United States, the sale for importation, or the sale within the United States after importation of certain high-potency sweeteners, processes for making same, and products containing same by reason of infringement of certain claims of United States Patent Nos. 10,023,546; 10,208,004; 10,590,098; 10,233,163; and 10,590,095. Id. The complaint further alleged that a domestic industry exists. Id. The Commission's notice of investigation named twelve respondents, including respondents Anhui Jinhe Industrial Co., Ltd., and Jinhe USA LLC (collectively, “Jinhe”) and Prinova US LLC (“Prinova”). Id. The Office of Unfair Import Investigations (“OUII”) is also participating in this investigation. Id.

On July 9, 2021, Celanese moved for leave to add the Proposed Respondents to the complaint and notice of investigation. On July 21, 2021, Jinhe filed a brief opposing Celanese's motion on the grounds that certain of the Proposed Respondents could have been identified by Celanese in its original complaint, and that the current respondents, OUII, and the Proposed Respondents will be prejudiced by the addition of respondents at this stage of the investigation. The same day, Prinova filed a notice indicating that it joined Jinhe's opposition. Also, on the same day, OUII filed a brief supporting Celanese's motion.

On August 6, 2021, the ALJ issued the subject ID granting Celanese's motion. The subject ID is based on the ALJ's subsidiary findings that Celanese has shown good cause to add allegations to the complaint that the Proposed Respondents have violated section 337 and that the current parties are unlikely to suffer prejudice due to the addition of the Proposed Respondents to the investigation. No petitions for review of the ID were received.

The Commission has determined not to review the subject ID. The notice of investigation is hereby amended to add the following as respondents to the investigation:

1. Amerisweet Co., Ltd.;

2. Batory Foods;

3. DMH Ingredients Inc.;

4. Fortway Chemicals Co.;

5. Ingredient Supply Corporation;

6. Nutravative Ingredients;

7. Nutrisprinter Limited;

8. Polestar Development Limited;

9. Qingdao Samin Chemical Co.;

10. Rochem International Inc.; and

11. V-Chem Trading Ltd.

The Commission vote for this determination took place on August 23, 2021.

The authority for the Commission's determination is contained in section 337 of the Tariff Act of 1930, as amended (19 U.S.C. 1337), and in Part 210 of the Commission's Rules of Practice and Procedure (19 CFR part 210).

By order of the Commission.
Issued: August 23, 2021.
Katherine Hiner,
Supervisory Attorney.

[FR Doc. 2021-18431 Filed 8-25-21; 8:45 am]

BILLING CODE 7020-02-P